DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before April 25, 2013. Address written comments to Statutory Import Programs Staff, Room 3720, U.S. Department of Commerce, Washington, DC 20230. Applications may be examined between 8:30 a.m. and 5:00 p.m. at the U.S. Department of Commerce in Room 3720.

Docket Number: 13-007. Applicant: University of Illinois, Materials Research Lab, 104 S Goodwin Ave., Urbana, IL 61801. Instrument: Electron Microscope. Manufacturer: FEI Company, Czech Republic. Intended Use: The instrument will be used to seek the measurement and potentially direct-tailoring of materials properties, through the study of the relation of structure to catalytic activity, strain and composition within nanostructures, the effects of impurities on the strength of materials, and other properties of catalytic materials such as Pt, Ru, and Mo, semiconductor nanostructures (Si, Ge, InAs), metal alloys such as Ni/Al, and other materials. Justification for Duty-Free Entry: There are no instruments of the same general category manufactured in the United States. Application accepted by Commissioner of Customs: February 27, 2013.

Docket Number: 13-010. Applicant: University of Pittsburgh, 3700 O'Hara St., 636 Benedum Hall, Pittsburgh, PA 15261. Instrument: Electron Microscope. Manufacturer: FEI, Czech Republic. Intended Use: The instrument will be used to gain a better understanding of the relationship between microstructure and the performance of materials, through the analysis of crystallographic texture, the identification of crystallographic orientation relationships between precipitates and the matrix, precipitate size distributions and the analysis of chemical compositions of electronic materials, advanced ceramics for medical applications, advanced Ni-based Superalloys, stainless steels (for energy applications), advanced high-strength steels, and many other materials. Justification for Duty-Free Entry: There are no instruments of the same general category manufactured in the United States. Application accepted by Commissioner of Customs: March 4, 2013.

Docket Number: 13-011. Applicant: National Institutes of Health, Porter Neurosciences Research Center, 35 Covent Dr., Bethesda, MD 20892. Instrument: Electron Microscope. Manufacturer: JEOL Ltd., Japan. Intended Use: The instrument will be used to help understand how the human body functions normally, such as in learning, memory or hearing, and to understand the pathologies of human diseases. In order to understand these functions, this instrument will be used in experiments such as identifying the molecular components of a structure in an adult and in development, as well as looking for changes in the structure brought on by disease or by normal functional changes in cells of living organisms such as nerve cells or neurons of the brain, as well as inner ear cells. Justification for Duty-Free Entry: There are no instruments of the same general category manufactured in the United States. Application accepted by Commissioner of Customs: March 8, 2013.

Dated: March 28, 2013.
Gregory W. Campbell,
Director of Subsidies Enforcement, Import Administration.

[FR Doc. 2013-08024 Filed 4-4-13; 8:45 am]

BILLING CODE 3510-DS-P